POSTAL SERVICE

39 CFR Part 111

Revised Standards for Postage and Fee Refunds

AGENCY: Postal Service.™

ACTION: Final rule.

SUMMARY: This rule modifies the Mailing Standards of the United States Postal Service, Domestic Mail Manual (DMM®) 604.9.0 to establish a minimum dollar amount for the issuance of checks by the USPS® for the refund of unused postage value in postage meters and PC Postage® accounts. In addition, we provide specific time frames and procedures for refunds of different types of postage produced by PC Postage and postage meter systems.

DATES: This rule is effective November 6, 2008.

FOR FURTHER INFORMATION CONTACT: Daniel J. Lord, Manager, Postage Technology Management, U.S. Postal Service, at 202-268-4281.

SUPPLEMENTARY INFORMATION: The final rule establishes a $25.00 minimum for USPS issuance of individual customer refund checks for the unused postage value in postage meters and PC postage accounts. In addition, the final rule provides a 60-day limit for submission of physical refunds for both PC Postage and postage meter indicia; specifies a 10-day limit and procedure for requesting refunds processed electronically for items bearing a Product Identification Code (PIC) produced by a PC Postage system; and establishes a refund procedure for unused, undated PC Postage indicia.

A revised proposed revision of DMM 604.9.0 was published for comment in the Federal Register, May 9, 2008 (Vol. 73, No. 91, pages 26353-26355).

Comments:

No comments were received on the revised proposed rule.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

600 Basic Standards for All Mailing Services

* * * * *

604 Postage Payment Methods

* * * * *

9.0 Refunds and Exchanges

* * * * *

9.2 Postage and Fee Refunds

* * * * *

9.2.8 Ruling on Refund Request

Refund requests are decided based on the specific type of postage or mailing:

* * * * *

[Revise items b and c by changing “licensing post office” to “local post office” and changing “licensee” to “authorized user” as follows:]

b. Dated metered postage, except for PC Postage systems, under 9.3. The postmaster at the local Post Office grants or denies requests for refunds for dated metered postage under 9.3. The authorized user may appeal an adverse ruling within 30 days through the manager, Postage Technology Management, USPS Headquarters (see 608.8.0 for address), who issues the final agency decision. The original meter indicia must be submitted with the appeal.

c. Undated metered postage under 9.3. The manager, business mail entry at the district Post Office overseeing the mailer's local Post Office, or designee authorized in writing, grants or denies requests for refunds for undated metered postage under 9.3. The authorized user may appeal an adverse ruling within 30 days through the manager, business mail entry, or designee, to the Pricing and Classification Service Center (PCSC) manager who issues the final agency decision. The original meter indicia must be submitted with the appeal.

[Revise item d as follows:]

d. PC Postage systems under 9.3. The system provider grants or denies a request for a refund for indicia printed by PC Postage systems under 9.3 using established USPS criteria. The authorized user may appeal an adverse ruling within 30 days through the manager, Postage Technology Management, USPS Headquarters, who issues the final agency decision. The original indicia must be submitted with the appeal.

* * * * *

9.3 Refund Request for Postage Evidencing Systems and Metered Postage

9.3.1 Unused Postage Value in Postage Evidencing Systems

[Revise 9.3.1 to restrict refunds to amounts of $25.00 or more and to change “licensee” to “authorized user” as follows:]

The unused postage value remaining in a postage evidencing system when withdrawn from service may be refunded, depending upon the circumstance and the ability of the USPS to make a responsible determination of the actual or approximate amount of the unused postage value. If the postage evidencing system is withdrawn because of faulty operation, a final postage adjustment or refund will be withheld pending the system provider's report of the cause to the USPS and the USPS determination of whether or not a refund is appropriate and, if so, the amount of the refund. No refund is given for faulty operation caused by the authorized user. When a postage evidencing system that is damaged by fire, flood, or similar disaster is returned to the provider, postage may be refunded or transferred when the registers are legible and accurate, or the register values can be reconstructed by the provider based on adequate supporting documentation. When the damaged system is not available for return, postage may be refunded or transferred only if the provider can accurately determine the remaining postage value based on adequate supporting documentation. The authorized user may be required to provide a statement on the cause of the damage and to attest that there has not been reimbursement by insurance or otherwise, and that the authorized user will not seek such reimbursement. Refunds for unused postage value are granted for postage evidencing systems specified in 4.0 in accordance with the following procedures:

a. All postage evidencing systems except for PC Postage systems. Authorized users must notify their provider to withdraw the system and to refund any unused postage value remaining on their system or account. The postage evidencing system must be examined to verify the amount before any funds are cleared from the meter. Based on what is found, a refund or credit is initiated for unused postage value, or additional money is collected to pay for postage value used. The provider forwards the refund request to the USPS for payment or may credit the amount to the authorized user's account. The USPS will not issue individual customer refund checks for unused postage value less than $25.00 remaining in a postage evidencing system.

b. PC Postage systems. Authorized users must notify their provider to withdraw the system and to refund any unused postage value remaining in their account. The provider refunds the unused postage value remaining on the user's system on behalf of the USPS. The USPS will not issue individual customer refund checks for unused postage value less than $25.00 remaining in a postage evidencing system.

9.3.2 Unused, Dated Postage Evidencing System Indicia, Except PC Postage Indicia

* * * All other metered postage refund requests must be submitted as follows:

[Revise items a through e only as follows:]

a. Authorized users must submit the request to their local Post Office. The refund request must include proof that the person or entity requesting the refund is the authorized user of the postage meter that printed the indicia. Acceptable proof includes a copy of the lease, rental agreement, or contract.

b. Authorized users must include the items bearing the unused postage with their request to their local Post Office. The items must be sorted by meter used and then by postage value shown in the indicia, and must be properly faced and bundled in groups of 100 identical items when quantities allow. The request is processed by the USPS. The postmaster approves or denies the refund request.

c. Authorized users must submit the refund request within 60 days of the date(s) shown in the indicia.

d. When unused metered postage is affixed to a mailpiece, the refund request must be submitted with the entire envelope or wrapper. For those items with postage affixed to a large container (i.e., cardboard box), a sufficient portion of the container with the postage affixed must be included to validate that the item was never deposited with the USPS. The unused metered postage must not be removed from the mailpiece once applied.

e. Indicia printed on labels or tapes not adhered to wrappers or envelopes must be submitted loose and must not be stapled together or attached to any paper or other medium. Self-adhesive labels printed without a backing may be submitted on a plain sheet of paper.

* * * * *

9.3.3 Unused, Dated PC Postage Indicia

* * * The refund request must be submitted as follows:

[Revise 9.3.3 a, b, and c only as follows:]

a. Only authorized PC Postage users may request the refund. Users must submit the request to their system provider. The request is processed by the provider, not the USPS.

b. Requests for refund of PC Postage indicia that contain a valid Postal Identification Code (PIC) must be submitted by authorized users to their provider electronically in accordance with procedures available from their provider. Valid PICs include any form of Delivery Confirmation, Signature Confirmation, Express Mail, or Confirm Code service. Authorized users must initiate requests for electronic refunds within ten (10) days of printing the indicia. Refunds for postage associated with a PIC may only be submitted electronically. Physical submissions are not permitted.

c. Requests for refund of PC Postage indicia which do not have an associated PIC must be physically submitted by authorized users to their provider, along with the items bearing the unused postage, in accordance with procedures available from their provider. Authorized users must submit the refund request within sixty (60) days of the date(s) shown in the indicia. The refund request must be submitted as required in 9.3.2d through 9.3.2g.

* * * * *

[Revise heading of 9.3.4 as follows:]

9.3.4 Unused, Undated Metered Postage

* * * The refund request must be submitted as follows:

[Revise text of items a and c only as follows:]

a. Only the authorized user, or the commercial entity that prepared the mailing for the authorized user, may request the refund. The request must include a letter signed by the authorized user, or the commercial entity that prepared the mailing, explaining why the mailpieces were not mailed.

* * * * *

c. The authorized user, or the commercial entity that prepared the mailing for the authorized user, must submit the request, along with the items bearing the unused postage and the required documentation, to the manager, business mail entry at the district Post Office overseeing the mailer's local Post Office, or to a designee authorized in writing. The manager or designee approves or denies the refund request.

* * * * *

[Renumber current 9.3.5 through 9.3.7 as new 9.3.6 through 9.3.8, and add new 9.3.5 as follows:]

9.3.5 Unused, Undated PC Postage Indicia

Refunds will not normally be provided for valid, undated, serialized PC Postage indicia containing commonly used postage values. If the authorized user believes there are extraordinary circumstances, requests for such refunds must be made by the authorized user in accordance with the procedures outlined in 9.3.3.c, along with a detailed description of the extraordinary circumstances. Requests will be considered by the provider on a case by case basis.

9.3.6 Ineligible Metered Postage Items

The following metered postage items are ineligible for refunds:

* * * * *

[Revise item d of renumbered 9.3.6 to change “licensing Post Office” to “local Post Office” as follows:]

d. Indicia lacking identification of the local Post Office or other required information.

* * * * *

Neva R. Watson,
Attorney, Legislative.

[FR Doc. E8-24537 Filed 10-15-08; 8:45 am]

BILLING CODE 7710-12-P